DEPARTMENT OF LABOR

Employment and Training Administration

[TA-W-50,315]

Capital City Press, Inc., Publication Services Division, Barre, VT; Amended Certification Regarding Eligibility to Apply for Worker Adjustment Assistance

In accordance with section 223 of the Trade Act of 1974 (19 U.S.C. 2273) the Department of Labor issued a Certification of Eligibility to Apply for Worker Adjustment Assistance on January 29, 2003, applicable to workers of Capital City Press, Inc., Barre, Vermont. The notice was published in the Federal Register on Februrary 24, 2003 (68 FR 8620).

At the request of the company, the Department reviewed the certification for workers of the subject firm. Findings show that the Department limited its certification coverage to workers of the subject firm engaged in typesetting printing production.

New company information shows that worker separations involving the remaining worker groups will occur at the Barre, Vermont location of the subject firm. The Publication Services Division of the subject firm encompasses all production processes at the Barre, Vermont location. The Publication Services Division provides typesetting, proofreading and digital imaging (scanning) necessary to prepare pages for the typesetting printing production.

It is the intent of the Department to include all workers of Capital City Press, Publication Services Division, who were adversely affected by increased imports.

The amended notice applicable to TA-W-50,315 is hereby issued as follows:

All workers of Capital City Press, Inc., Publication Services Division, Barre, Vermont, who became totally or partially separated from employment on or after December 10, 2001, through January 29, 2005, are eligible to apply for adjustment assistance under section 223 of the Trade Act of 1974.

Signed at Washington, DC this 6th day of November 2003.
Linda G. Poole,
Certifying Officer, Division of Trade Adjustment Assistance.

[FR Doc. 03-29550 Filed 11-25-03; 8:45 am]

BILLING CODE 4510-30-P